DEPARTMENT OF STATE

[Public Notice 6829]

Suggestions for 2009-2011 Work Program for Joint Commission for Environmental Cooperation Established Pursuant to the United States-Chile Environmental Cooperation Agreement

ACTION: Notice of preparation of the 2009-2011 U.S.-Chile Environmental Cooperation Work Program and request for comments.

SUMMARY: The Department of State is soliciting ideas and suggestions for environmental cooperation projects between the United States and Chile. The United States and Chile are in the process of developing a 2009-2011 Work Program pursuant to the United States-Chile Environmental Cooperation Agreement (ECA) signed in June 2003. The ECA outlines broad areas for environmental cooperation with the objective of establishing a framework for cooperation between the United States and Chile to promote the conservation and protection of the environment, the prevention of pollution and degradation of natural resources and ecosystems, and the rational use of natural resources, in support of sustainable development. In addition, in the Environment Chapter of the U.S.-Chile Free Trade Agreement (FTA) (Chapter 19), “[t]he Parties recognize the importance of strengthening capacity to protect the environment and promote sustainable development in concert with strengthening trade and investment relations between them [and] agree to undertake cooperative environmental activities.” (U.S.-Chile FTA, Article 19.5(1)). The main areas of cooperation under the 2009-2011 Work Program are: (1) Strengthening the effective implementation and enforcement of environmental laws and regulations; (2) encouraging the development and adoption of sound environmental practices and technologies, particularly in business enterprises; (3) promoting the sustainable development and management of environmental resources, including wild fauna and flora, protected wild areas, and other ecologically important ecosystems; and (4) civil society participation in the environmental decision-making process and environmental education. During 2009-2011, the United States and Chile intend to continue to build upon the cooperative work initiated in the 2007-2008 Work Program, and to continue to follow up on the themes reflected in the environment chapter of the Free Trade Agreement (FTA).

The Department of State invites government agencies and the public, including NGOs, educational institutions, private sector enterprises and other interested persons, to submit written comments or suggestions regarding items for the Work Program and implementation of environmental cooperation activities. In preparing such comments or suggestions, we encourage submitters to refer to: (1) The U.S.-Chile ECA, (2) the U.S.-Chile Joint Commission for Environmental Cooperation (JCEC) 2007-2008 Work Program, (3) the U.S.-Chile FTA available at http://www.ustr.gov, and (4) the Environmental Review of the FTA. (Documents are available at: http://www.state.gov/g/oes/env/trade/chile/index.htm). In the near future, the Department of State will be seeking ideas and suggestions for environmental cooperation projects with Peru, Bahrain and Oman through a similar Federal Register notice.

DATES: To be assured of timely consideration, all written comments or suggestions are requested no later than December 28, 2009.

ADDRESSES: Written comments or suggestions should be e-mailed (trontjm@state.gov) or faxed to Jacqueline Tront ((202) 647-5947), U.S. Department of State, Bureau of Oceans, Environment, and Science, Office of Environmental Policy, with the subject line “U.S.-Chile Work Program on Environmental Cooperation.”

FOR FURTHER INFORMATION CONTACT: Jacqueline Tront, telephone (202) 647-4750 U.S. Department of State, Bureau of Oceans, Environment, and Science, Office of Environmental Policy.

SUPPLEMENTARY INFORMATION: Article 19.3 of the U.S.-Chile FTA establishes an Environmental Affairs Council (EAC), which is required to meet at least once a year to discuss the implementation and progress of environmental cooperation between the U.S. and Chile. Article II of the U.S.-Chile ECA establishes the JCEC, with responsibilities which include developing and periodically reviewing the work program. The work program is a tool which identifies and outlines agreed upon environmental cooperation priorities, on-going efforts and possibilities for future cooperation.

The 2009-2011 Work Program focuses on the following priority areas, with the following corresponding general objectives: (1) Strengthening the effective implementation and enforcement of environmental laws and regulations (see FTA Art. 19.2.1(a); ECA Art. III.2); (2) Encouraging the development and adoption of sound environmental practices and technologies, particularly in business enterprises (see FTA Art. 19.10; ECA Art. II.2(d), Art. III.2(d)); (3) Promoting sustainable development and management of environmental resources, including wild fauna and flora, protected wild areas, and other ecologically important ecosystems (see FTA Annex 19.3 Art. 3(d); ECA Art. III.2(d)) and (4) Civil society participation in the environmental decision-making process and environmental education (see FTA Arts. 19.3 and 19.4; ECA Arts. III.1 and IV). We are seeking ideas and suggestions for activities which can be included in the work plan.

Ongoing environmental cooperation work includes: environmental law training workshops for Chilean judges; environmental permitting training for Chilean inspectors; a Patagonia volunteer expedition project where volunteers are engaged in trail and habitat repair within Chilean protected areas; and consultations and information exchange to support Chile's efforts to implement a Pollutant Release and Transfer Registry. Projects that have been successfully completed and in which we are engaged in follow up activities include: promotion of renewable energy opportunities in Chile (e.g., geothermal, wind, biogas, solar, hydroelectric power) including sharing of prospective policy, regulatory and financial models for the adoption of renewable energy technologies; reduction of air pollution in the transport sector by implementing a diesel retrofit project; reduction of the environmental impacts of mining through information exchange on enhanced land use planning and generating and reviewing environmental impact assessments; and consultations on approaches to promoting sustainable agriculture and appropriate handling of pesticides and fertilizers. The listed activities and additional cooperative activities were outlined in previous work plans agreed upon by the EAC and discussed during previous meetings of the JCEC. Additional information can be found on the Web site listed below.

The ECA was signed on June 17, 2003, and sets out a framework for environmental cooperative activities between the two governments. The United States and Chile negotiated the ECA in concert with the U.S.-Chile FTA, which entered into force January 1, 2004. Article 19.3 of the U.S.-Chile FTA establishes the EAC. Article II of the ECA establishes the United States-Chile JCEC, with responsibilities which include developing and periodically reviewing the work program. The JCEC is required to meet at least every two years. The first meetings of the EAC and JCEC were held on July 22, 2004, in Santiago, Chile, the second EAC meeting was held on October 24, 2005, in Washington, DC, and the third EAC meeting and second JCEC meeting were held October 23-24, 2006 in Santiago. At the fourth EAC meeting, held April 23-25, 2008, in Santiago, the EAC discussed the implementation of Chapter 19 of the FTA with respect to public participation, progress reports on the eight cooperation projects under Chapter 19, implementation of the 2005-2006 Work Program, and elaboration of the 2007-2008 Work Program.

At the upcoming fifth EAC meeting in Washington, DC on January 20, 2010, the EAC will review implementation of Chapter 19 and receive reports on (1) the progress of projects outlined in Chapter 19 of the FTA, (2) the roles and activities of the Trade and Environment Policy Advisory Committee and the public advisory committee that advises the Chilean government on environmental policy, and (3) the 2009-2011 Work Program. At its third meeting, the JCEC, during a Joint Public Session with the EAC, will receive reports on progress of implementing the 2007-2008 Work Program and review and approve the 2009-2011 Work Program. The EAC and JCEC will also consider recommendations for future bilateral cooperation.

In carrying out this cooperative work, the United States and Chile intend to explore the development of partnerships with private sector and civil society organizations, to build upon and complement ongoing bilateral cooperative work in other fora, and to explore opportunities for mutual collaboration in these priority areas with other countries in the Western Hemisphere.

For additional information: http://www.state.gov/g/oes/env/trade/chile/index.htm.

Disclaimer: This Public Notice is a request for comments and suggestions, and is not a request for applications. No granting or money is directly associated with this request for suggestions for the 2009-2011 Work Program. There is no expectation of resources or funding associated with any comments or suggestions provided for the 2009-2011 Work Program.

Dated: November 30, 2009.
Willem H. Brakel,
Acting Director, Office of Environmental Policy, Department of State.

[FR Doc. E9-28876 Filed 12-2-09; 8:45 am]

BILLING CODE 4710-09-P